DEPARTMENT OF COMMERCE

International Trade Administration

[A-583-815]

Certain Welded Stainless Steel Pipe From Taiwan: Rescission of Antidumping Duty Administrative Review

AGENCY: Import Administration, International Trade Administration, U.S. Department of Commerce.

ACTION: Notice of rescission of the antidumping duty administrative review for the period December 1, 1998 through November 30, 1999.

SUMMARY: On January 26, 2000, in response to a request made by respondent Ta Chen Stainless Steel Pipe, Ltd. (“Ta Chen”), the Department of Commerce (“Department”) published the notice of initiation of an antidumping duty administrative review on certain welded stainless steel pipe (“WSSP”) from Taiwan, for the period December 1, 1998 through November 30, 1999. Because Ta Chen has withdrawn its request for review, the Department is rescinding this review in accordance with 19 CFR 351.213(d)(1).

EFFECTIVE DATE: April 27, 2000.

FOR FURTHER INFORMATION CONTACT: Juanita H. Chen or Robert A. Bolling, Enforcement Group III, Office 9, Import Administration, International Trade Administration, U.S. Department of Commerce, 1401 Constitution Avenue, N.W., Washington, DC 20230; telephone: 202-482-0409 and 202-482-3434, respectively.

SUPPLEMENTARY INFORMATION:

Applicable Statute and Regulations

Unless otherwise indicated, all citations to the Tariff Act of 1930, as amended (“the Act”), are references to the provisions effective January 1, 1995, the effective date of the Uruguay Round Agreements Act. In addition, unless otherwise indicated, all citations to the Department's regulations are to the regulations codified at 19 CFR Part 351 (1999).

Background

On December 29, 1999, Ta Chen, a producer and exporter of subject merchandise from Taiwan, requested that the Department conduct an administrative review for the period December 1, 1998 through November 30, 1999. On January 26, 2000, the Department published a notice of initiation of the antidumping administrative review on WSSP from Taiwan, in accordance with 19 CFR 351.221(c)(1)(i). See Initiation of Antidumping and Countervailing Duty Administrative Reviews, 65 FR 4228 (January 26, 2000). On March 20, 2000, the Department issued a questionnaire to Ta Chen. On April 10, 2000, Ta Chen withdrew its request for review.

Rescission of Review

Pursuant to Departmental regulations, the Department will rescind an administrative review “if a party that requested the review withdraws the request within 90 days of the date of publication of notice of initiation of the requested review.” 19 CFR 351.213(d)(1). Ta Chen's withdrawal of its request for review was within the 90-day time limit; accordingly, we are rescinding the administrative review for the period December 1, 1998 through November 30, 1999, and will issue appropriate appraisement instructions to the U.S. Customs Service.

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and terms of an APO is a sanctionable violation. This determination is issued in accordance with 19 CFR 351.213(d)(4) and section 777(i)(1) of the Act.

Dated: April 21, 2000.
Edward Yang,
Acting Deputy Assistant Secretary, Enforcement Group III.

[FR Doc. 00-10530 Filed 4-26-00; 8:45 am]

BILLING CODE 3510-DS-P